DEPARTMENT OF STATE

[Delegation of Authority No. 371]

Delegation of Authority Under Section 13(r)(5) of the Securities Exchange Act of 1934, as Amended

By virtue of the authority vested in me as Secretary of State, including Section 1 of the State Department Basic Authorities Act, as amended (22 U.S.C. 2651a), and the Presidential Memorandum of October 9, 2012, I hereby delegate to the Under Secretary for Political Affairs and the Assistant Secretary for Economic and Business Affairs, to the extent authorized by law, the functions set forth in section 13(r)(5) of the Securities Exchange Act of 1934, as amended (codified at 15 U.S.C. 78m(r)(5)(A)).

This delegation of authority does not include the authority to make determinations that an issuer is to be sanctioned, impose sanctions, or exercise any related waiver authorities with respect to any issuer (or any affiliate of the issuer).

Any act, executive order, regulation, or procedure subject to, or affected by, this delegation shall be deemed to be such act, executive order, regulation, or procedure as amended from time to time.

Notwithstanding any provision of this Delegation of Authority, the Secretary, the Deputy Secretary, the Deputy Secretary for Management and Resources, and the Under Secretary for Economic Growth, Energy, and the Environment, may at any time exercise any function delegated by this delegation of authority.

This delegation of authority shall be published in the Federal Register.

Dated: January 9, 2014.
John F. Kerry,
Secretary of State, Department of State.

[FR Doc. 2014-07710 Filed 4-4-14; 8:45 am]

BILLING CODE 4710-07-P